COMMISSION ON CIVIL RIGHTS

Notice of Public Meeting of the Minnesota Advisory Committee; Cancellation

AGENCY: Commission on Civil Rights.

ACTION: Notice; cancellation of meeting.

SUMMARY: The Commission on Civil Rights published a notice in the Federal Register concerning a meeting of the Minnesota Advisory Committee. The meeting, scheduled for Wednesday, April 10, 2024, at 1:00 p.m. CT, has been cancelled. The notice is in the Federal Register on Tuesday, February 20, 2024, in FR Document Number 2024-03390 on page 12821.

FOR FURTHER INFORMATION CONTACT: Liliana Schiller, Support Services Specialist, at lschiller@usccr.gov or (202) 770-1856.

Dated: April 4, 2024.
David Mussatt,
Supervisory Chief, Regional Programs Unit.

[FR Doc. 2024-07488 Filed 4-8-24; 8:45 am]

BILLING CODE P